DEPARTMENT OF COMMERCE

National Oceanic and Atmospheric Administration

RIN: 0648-XJ12

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council), its Squid, Mackerel, Butterfish Committee; its Research Set-Aside (RSA) Committee; its Bycatch/Limited Access Privilege Program (LAPP) Committee; and, its Protected Resources Committee will hold public meetings.

DATES: The meetings will be held Monday, August 4, 2008 through Thursday, August 7, 2008. See SUPPLEMENTARY INFORMATION for specific meeting dates and times.

ADDRESSES: Renaissance Philadelphia Hotel, 500 Stevens Drive, Philadelphia, PA 19113; telephone: (610) 521-5900.

Council address: Mid-Atlantic Fishery Management Council, 300 S. New St., Room 2115, Dover, DE 19904; telephone: (302) 674-2331.

FOR FURTHER INFORMATION CONTACT: Daniel T. Furlong, Executive Director, Mid-Atlantic Fishery Management Council; telephone: (302) 674-2331 ext. 19.

SUPPLEMENTARY INFORMATION:

Monday, August 4, 2008

8 a.m. until noon - The Squid, Mackerel, Butterfish Committee will meet.

1 p.m. until 4 p.m. - The Research Set-Aside Committee will meet in closed session with officials from NMFS.

4 p.m. until 5 p.m. - The Bycatch/LAPP Committee will meet.

Tuesday, August 5, 2008

8:30 a.m. until 10 a.m. - The Squid, Mackerel, Butterfish Committee will meet.

10 a.m. until noon - The Council will convene and receive presentations by NMFS officials regarding the Proposed Rule to modify National Standard 1 Guidelines and the outcome of the 47th Stock Assessment Review.

1 p.m. until 2:30 p.m. - The Council will consider approving Amendment 10 to the Squid, Mackerel, and Butterfish FMP for Secretarial submission.

2:30 p.m. until 5:30 p.m. - The Council will convene jointly with the Atlantic States Marine Fisheries Commission's (ASMFC) Summer Flounder, Scup, and Black Sea Bass Board.

Wednesday, August 6, 2008

8 a.m. until 5:30 p.m. - The Council will convene jointly with the Atlantic States Marine Fisheries Commission's (ASMFC) Summer Flounder, Scup, and Black Sea Bass Board.

Thursday, August 7, 2008

8 a.m. until 9 a.m. - The Protected Resources Committee will meet.

9 a.m. - The Council will convene to discuss Framework 2 to the Dogfish FMP; receive Committee reports; receive an update from NMFS officials on the Status of the Marine Recreational Information Program (MRIP); and, conduct any continuing or new business.

Agenda items by day for the Council's Committees and the Council itself are:

Monday, August 4 - the Squid, Mackerel, and Butterfish Committee will review public comments and develop preferred alternatives for Council consideration and action regarding submission of Amendment 10 for Secretarial action. The Bycatch/LAPP Committee will receive an update on the status of the draft of the bycatch pamphlet for catch and release practices, and address prioritizing bycatch information needs.

Tuesday, August 5 - The Squid, Mackerel, and Butterfish Committee will meet to review and consider qualifying criteria to be used in the mackerel limited entry system that is being addressed in Amendment 11. The Council will convene for a presentation by NMFS officials regarding the proposed rule to modify National Standard 1 guidelines for Annual Catch Limits (ACL) and Accountability Measures (AM). The Council will receive a report on the results of the 47th Stock Assessment Review including opinions of members of the Center for Independent Expertise's (CIE) regarding the SAW reports on summer flounder that served as the basis for the 47th Stock Assessment Review. The Council will vote to approve (or not) Amendment 10 to the Squid, Mackerel, and Butterfish FMP for Secretarial submission. The Council will then meet jointly with the Atlantic States Marine Fisheries Commission's Summer Flounder, Scup, and Black Sea Bass Boards to review the Scientific and Statistical Committee's and the Scup Monitoring Committee's recommendations regarding proposed scup harvest levels and commercial management measures for the 2009 fishing year, and then adopt its recommendations for the harvest levels and commercial management measures for the 2009 scup fishery.

Wednesday, August 6 - the Council will convene and meet jointly with the Atlantic States Marine Fisheries Commission's Summer Flounder, Scup, Black Sea Bass, and Bluefish Boards to review the Scientific and Statistical Committee's and the Summer Flounder, Black Sea Bass, and Bluefish Monitoring Committee's recommendations regarding the summer flounder, black sea bass, and bluefish proposed harvest levels and commercial management measures for the 2009 fishing year, and then adopt its recommendations for the summer flounder, scup, black sea bass, and bluefish harvest levels and commercial management measures for these fisheries in 2009.

Thursday, August 7 - the Protected Resources Committee will review NMFS' proposed list of fisheries (LOF) and develop comments for Council consideration and action. The Council will convene to review and discuss proposed measures (adjustment mechanism for stock status determination criteria) for Framework 2 to the Dogfish FMP; report on regular business; receive an update on the status of NMFS' MRIP; receive Committee Reports; and, consider and address any continuing or new business.

Although non-emergency issues not contained in this agenda may come before the Council for discussion, these issues may not be the subject of formal Council action during these meetings. Council action will be restricted to those issues specifically listed in this notice and any issues arising after publication of this notice that require emergency action under Section 305(c) of the Magnuson-Stevens Act, provided the public has been notified of the Council's intent to take final action to address such emergencies.

Special Accommodations

These meetings are physically accessible to people with disabilities. Requests for sign language interpretation or other auxiliary aid should be directed to M. Jan Bryan, (302) 674-2331 ext 18, at least 5 days prior to the meeting date.

Dated: July 15, 2008.
Tracey L. Thompson,
Acting Director, Office of Sustainable Fisheries, National Marine Fisheries Service.

[FR Doc. E8-16436 Filed 7-17-08; 8:45 am]

BILLING CODE 3510-22-S